DEPARTMENT OF THE INTERIOR

National Park Service

[NPS-WASO-NAGPRA-NPS0026718; PPWOCRADN0-PCU00RP14.R50000]

Notice of Inventory Completion: Kansas State Historical Society, Topeka, KS

AGENCY: National Park Service, Interior.

ACTION: Notice.

SUMMARY: The Kansas State Historical Society has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Kansas State Historical Society. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Kansas State Historical Society at the address in this notice by December 14, 2018.

ADDRESSES: Dr. Robert J. Hoard, Kansas State Historical Society, 6425 SW 6th Avenue, Topeka, KS 66615-1099, telephone (785) 272-8681 Ext. 269, email Robert.hoard@ks.gov.

SUPPLEMENTARY INFORMATION: Notice is here given in accordance with the Native American Graves Protection and Repatriation Act (NAGPRA), 25 U.S.C. 3003, of the completion of an inventory of human remains and associated funerary objects under the control of the Kansas State Historical Society, Topeka, KS. The human remains and associated funerary objects were removed from Doniphan County, KS.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Kansas State Historical Society professional staff in consultation with representatives of the Kaw Nation, Oklahoma.

History and Description of the Remains

In 1963, human remains representing, at minimum, three individuals were removed from the Fanning site, 14DP1 (UBS 2015-04), in Doniphan, Kansas. The human remains are part of a larger collection donated to the Wyandotte County Historical Society and Museum by a local collector. In May 2015, the Kansas State Historical Society agreed to take these materials for the purpose of carrying out the requirements of the Native American Graves Protection and Repatriation Act (NAGPRA). Staff identified and took possession of human remains: One left tibia, one right tibia, one left femur, one right femur, one immature right radius, one left fibula diaphysis, one unidentified long bone fragment, one primary lower incisor, one secondary upper right canine, one secondary dentition tooth with significant wear, with each of these three teeth probably representing a different individual; one right side of a mandible with teeth, one right fourth metatarsal, left and right tali and naviculars, one each; one right calcaneus, one each second and third cuneiforms (19 elements/teeth). The 7 associated funerary objects identified from the 14DP1 collection are one diaphysis of an animal humerus, possibly belonging to a badger; five middle phalanges belonging to an unidentified species; and one proximal epiphyseal plate of a phalanx belonging to an unidentified species.

The site is affiliated with the Oneota archeological manifestation (A.D. 1000 to 1600), which is believed to be ancestral to the Kaw, the Otoe, or the Iowa. Several archeological sites in Kansas and Nebraska have been identified as Oneota (Ritterbush 2006:151). The Fanning site is tied both to the Oneota tradition and the historic Kansa (Buffalohead 2004:334-335; Marshall 2006:219, 230-231; 2008:87-92; O'Shea and Ludwickson 1992:16-17; Ritterbush 2006:151-152; Ritterbush and Logan 2009; Unrau 1971:19, Wedel 1959: 29, 51).

Determinations Made by the Kansas State Historical Society

Officials of the Kansas State Historical Society have determined that:

• Pursuant to 25 U.S.C. 3001(9), the human remains described in this notice represent the physical remains of three individuals of Native American ancestry.

• Pursuant to 25 U.S.C. 3001(3)(A), the seven objects described in this notice are reasonably believed to have been placed with or near individual human remains at the time of death or later as part of the death rite or ceremony.

• Pursuant to 25 U.S.C. 3001(2), there is a relationship of shared group identity that can be reasonably traced between the Native American human remains and the Kaw Nation.

Additional Requestors and Disposition

Lineal descendants or representatives of any Indian Tribe or Native Hawaiian organization not identified in this notice that wish to request transfer of control of these human remains and associated funerary objects should submit a written request with information in support of the request to Dr. Robert J. Hoard, Kansas State Historical Society, 6425 SW 6th Avenue, Topeka, KS 66615-1099, telephone (785) 272-8681 Ext. 269, email Robert.hoard@ks.gov, by December 14, 2018. After that date, if no additional requestors have come forward, transfer of control of the human remains to the Kaw Nation, Oklahoma may proceed.

The Kansas State Historical Society is responsible for notifying the Kaw Nation, Oklahoma that this notice has been published.

Dated: October 9, 2018.
Melanie O'Brien,
Manager, National NAGPRA Program.

[FR Doc. 2018-24767 Filed 11-13-18; 8:45 am]

BILLING CODE 4312-52-P